DEPARTMENT OF TRANSPORTATION

Federal Aviation Administration

14 CFR Part 39

[Docket No. 2001-NM-296-AD]

RIN 2120-AA64

Airworthiness Directives; Boeing Model 777-200 and -300 Series Airplanes

AGENCY: Federal Aviation Administration, DOT.

ACTION: Notice of proposed rulemaking (NPRM).

SUMMARY: This document proposes the adoption of a new airworthiness directive (AD) that is applicable to certain Boeing Model 777-200 and -300 series airplanes. This proposal would require replacing existing ceiling and sidewall light connectors in the passenger cabin with new connectors, and follow-on actions. This action is necessary to prevent overheating of the light connectors, which could result in smoke and a possible fire in the passenger cabin. This action is intended to address the identified unsafe condition.

DATES: Comments must be received by September 29, 2003.

ADDRESSES: Submit comments in triplicate to the Federal Aviation Administration (FAA), Transport Airplane Directorate, ANM-114, Attention: Rules Docket No. 2001-NM-296-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-296-AD” in the subject line and need not be submitted in triplicate. Comments sent via the Internet as attached electronic files must be formatted in Microsoft Word 97 or 2000 or ASCII text.

The service information referenced in the proposed rule may be obtained from Boeing Commercial Airplane Group, PO Box 3707, Seattle, Washington 98124-2207. This information may be examined at the FAA, Transport Airplane Directorate, 1601 Lind Avenue, SW., Renton, Washington.

FOR FURTHER INFORMATION CONTACT: Binh V. Tran, Aerospace Engineer, Systems and Equipment Branch, ANM-130S, FAA, Seattle Aircraft Certification Office, 1601 Lind Avenue, SW., Renton, Washington 98055-4056; telephone (425) 917-6485; fax (425) 917-6590.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-296-AD.” The postcard will be date stamped and returned to the commenter.

Availability of NPRMs

Any person may obtain a copy of this NPRM by submitting a request to the FAA, Transport Airplane Directorate, ANM-114, Attention: Rules Docket No. 2001-NM-296-AD, 1601 Lind Avenue, SW., Renton, Washington 98055-4056.

Discussion

The FAA has received several reports that ceiling and sidewall light connectors have overheated on several Boeing Model 777-200 and -300 series airplanes. Investigation following failure of ceiling and sidewall lights and, in two cases, tripped circuit breakers, revealed burned and charred light connectors. This damage has been attributed to moisture contamination within light connectors in which 115-volt power is present, which caused arcing within the connectors, and consequent melting, burning, and charring of the connectors. This condition, if not corrected, could result in smoke and a possible fire in the passenger cabin.

Explanation of Relevant Service Information

The FAA has reviewed and approved Boeing Special Attention Service Bulletin 777-33-0019, dated July 19, 2001, which describes procedures for replacing existing ceiling and sidewall light connectors with new connectors in the forward, middle, and aft passenger cabin. The procedures in the service bulletin include replacing ceiling and sidewall light assemblies with improved assemblies, replacing jumper bundles on ceiling lights (if installed) with new bundles, replacing connectors on certain wire bundles with new improved connectors, and performing functional tests. Accomplishment of the applicable actions specified in the service bulletin is intended to adequately address the identified unsafe condition.

Boeing Special Attention Service Bulletin 777-33-0019 refers to Diehl Service Bulletin 3352-33-01, dated June 20, 2001, as an additional source of service information for accomplishment of the connector replacements.

Explanation of Requirements of Proposed Rule

Since an unsafe condition has been identified that is likely to exist or develop on other products of this same type design, the proposed AD would require accomplishment of the actions specified in the Boeing service bulletin described previously.

In developing an appropriate compliance time for this AD, we considered the manufacturer's recommendation, the degree of urgency associated with the subject unsafe condition, the average utilization of the affected fleet, and the time necessary to perform the proposed actions. In light of all of these factors, we find that an 18-month compliance time represents an appropriate interval of time for affected airplanes to continue to operate without compromising safety.

Changes to 14 CFR Part 39/Effect on the Proposed AD

On July 10, 2002, we issued a new version of 14 CFR part 39 (67 FR 47997, July 22, 2002), which governs the FAA's airworthiness directives system. The regulation now includes material that relates to altered products, special flight permits, and alternative methods of compliance (AMOCs). Because we have now included this material in part 39, only the office authorized to approve AMOCs is identified in each individual AD.

Change to Labor Rate Estimate

We have reviewed the figures we have used over the past several years to calculate AD costs to operators. To account for various inflationary costs in the airline industry, we find it necessary to increase the labor rate used in these calculations from $60 per work hour to $65 per work hour. The cost impact information, below, has been revised to reflect this increase in the specified hourly labor rate.

Cost Impact

There are approximately 341 airplanes of the affected design in the worldwide fleet. The FAA estimates that 108 airplanes of U.S. registry, 22 Model 777-200 series airplanes and 86 Model 777-300 series airplanes, would be affected by this proposed AD.

For those Model 777-200 series airplanes, it would take approximately 72 work hours per airplane to accomplish the proposed actions, at an average labor rate of $65 per work hour. Required parts would cost approximately $4,631 per airplane. Based on these figures, the cost impact of the proposed AD on U.S. operators of Model 777-200 series airplanes is estimated to be $204,842, or $9,311 per airplane.

For those Model 777-300 series airplanes, it would take approximately 82 work hours per airplane to accomplish the proposed actions, at an average labor rate of $65 per work hour. Required parts would cost approximately $5,488 per airplane. Based on these figures, the cost impact of the proposed AD on U.S. operators of Model 777-300 series airplanes is estimated to be $930,348, or $10,818 per airplane.

The cost impact figures discussed above are based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Boeing: Docket 2001-NM-296-AD.

Applicability: Model 777-200 and -300 series airplanes, certificated in any category, line numbers 001 through 341 inclusive.

Compliance: Required as indicated, unless accomplished previously.

To prevent overheating of ceiling and sidewall light connectors, which could result in smoke and a possible fire in the passenger cabin, accomplish the following:

Service Bulletin References

(a) The following information pertains to the service bulletin referenced in this AD:

(1) The term “service bulletin,” as used in this AD, means the Accomplishment Instructions of Boeing Special Attention Service Bulletin 777-33-0019, dated July 19, 2001.

(2) Although the service bulletin referenced in this AD specifies to submit information to the manufacturer, this AD does not include such a requirement.

Replacement of Light Connectors

(b) Within 18 months after the effective date of this AD: Replace, with improved parts, the existing ceiling and sidewall light connectors and wire bundle connectors in the areas specified in the service bulletin; by accomplishing all actions in steps A. through S. in Work Packages 1, 2, and 3, of the Accomplishment Instructions of the service bulletin.

Note: Boeing Special Attention Service Bulletin 777-33-0019 refers to Diehl Service Bulletin 3352-33-01, dated June 20, 2001, as an additional source of service information for accomplishment of the connector replacements.

Alternative Methods of Compliance

(c) In accordance with 14 CFR 39.19, the Manager, Seattle Aircraft Certification Office, FAA, is authorized to approve alternative methods of compliance for this AD.

Issued in Renton, Washington, on August 11, 2003.
Neil D. Schalekamp,
Acting Manager, Transport Airplane Directorate, Aircraft Certification Service.

[FR Doc. 03-20836 Filed 8-14-03; 8:45 am]

BILLING CODE 4910-13-P